DEPARTMENT OF TRANSPORTATION

Federal Highway Administration

Notice of Final Federal Agency Actions on Proposed Highway in Washington State

AGENCY: Federal Highway Administration (FHWA), DOT.

ACTION: Notice of limitation on claims for judicial review of actions by FHWA.

SUMMARY: This notice announces actions taken by the FHWA and other Federal agencies that are final within the meaning of 23 U.S.C. 139(l)(1). The actions relate to a proposed highway project, US Highway 12, beginning near the town of Wallula and proceeding east to an area known as the Frenchtown Vicinity, in the County Walla Walla, State of Washington. Those actions grant licenses, permits, and approvals for the project.

DATES: By this notice, the FHWA is advising the public of final agency actions subject to 23 U.S.C. 139(l)(1). A claim seeking judicial review of the Federal agency actions on the highway project will be barred unless the claim is filed on or before April 24, 2011. If the Federal law that authorizes judicial review of a claim provides a time period of less than 180 days for filing such claim, then that shorter time period still applies.

FOR FURTHER INFORMATION CONTACT: For FHWA: Ms. Liana Liu, Area Engineer, Federal Highway Administration, 711 5. Capital Way, Suite 501, Olympia, WA 98501; telephone 360753-9553; e-mail liana.liu@dot.gov. The FHWA Washington Division Office's normal business hours are 7 a.m. to 4:30 p.m. (Pacific time). For WSDOT: Jason W. Smith, Environmental Manager, South Central Region, P.O. Box 12560, Yakima, WA 98909-2560; telephone 509-577-1750; e-mail smithjw@wsdot.wa.gov. The WSDOT South Central Region's normal business hours are 8 a.m. to 4:30 p.m. (Pacific time).

SUPPLEMENTARY INFORMATION: Notice is hereby given that the FHWA and other Federal agencies have taken final agency actions subject to 23 U.S.C. 139(l)(1) by issuing licenses, permits, and approvals for the following highway project in the State of Washington. The project will construct a 21 mile long, full access-controlled four-lane divided highway with both at-grade and grade-separated intersections. It will begin near the town of Wallula and proceed east to an area known as the Frenchtown Vicinity, where it will tie-in to the existing US Highway 12 outside of the City of Walla Walla, Washington. Except for the termini, and a two mile long portion of existing US 12, the entire project will be on new alignment. The project's Federal Aid Number is TCSP-0012(201). The actions by the Federal agencies, and the laws under which such actions were taken, are described in the Environmental Assessment (EA) for the project, approved on February 10, 2010, in the FHWA Finding of No Significant Impact (FONSI) issued on September 2, 2010, and in other documents in the FHWA project records. The EA, FONSI, and other project records are available by contacting FHWA or the Washington State Department of Transportation at the addresses provided above. The FHWA EA and FONSI can be viewed and downloaded from the project Web site at: http://www.wsdot.wa.gov/Projects/US12/PlanningStudy/Environmental.htm.

This notice applies to all Federal agency decisions as of the issuance date of this notice and all laws under which such actions were taken, including but not limited to

1. General: National Environmental Policy Act (NEPA) [42 U.S.C. 4321-4351]; Federal-Aid Highway Act [23 U.S.C. 109 and 23 U.S.C. 128].

2. Wildlife: Endangered Species Act [16 U.S.C. 1531-1544 and Section 1536].

3. Historic and Cultural Resources: Section 106 of the National Historic Preservation Act of 1966, as amended [16 U.S.C. 470(f) et seq.].

(Catalog of Federal Domestic Assistance Program Number 20.205, Highway Planning and Construction. The regulations implementing Executive Order 12372 regarding intergovernmental consultation on Federal programs and activities apply to this program.)

Authority: 23 U.S.C. 139(l)(1).

Issued on: October 15, 2010.
Daniel M. Mathis,
Division Administrator, Olympia, Washington.

[FR Doc. 2010-26729 Filed 10-25-10; 8:45 am]

BILLING CODE 4910-RY-M